DEPARTMENT OF DEFENSE

48 CFR Part 209

[DFARS Cases 98-D003, 99-D004, 99-D010]

Defense Federal Acquisition Regulation Supplement; Contract Administration and Audit Services

AGENCY: Department of Defense (DoD).

ACTION: Correction to final rule.

SUMMARY: DoD is issuing a correction to the final rule published at 64 FR 61028 on November 9, 1999, pertaining to contract administration and audit services.

EFFECTIVE DATE: November 9, 1999.

FOR FURTHER INFORMATION CONTACT: Ms. Michele Peterson, Defense Acquisition Regulations Council, OUSD (AT&L) DP (DAR), IMD 3D139, 3062 Defense Pentagon, Washington, DC 20301-3062. Telephone (703) 602-0311; telefax (703) 602-0350.

SUPPLEMENTARY INFORMATION:

Correction

In the issue of Tuesday, November 9, 1999, on page 61028, in the third column, amendatory instruction 4 is corrected to read as follows:

4. Section 209.106-2 is amended in paragraph (1) in the first sentence by removing the reference and abbreviation “DLAH 4105.4, DoD” and adding in their place the words “the Federal”.

Michele P. Peterson,
Executive Editor, Defense Acquisition Regulations Council.

[FR Doc. 00-23370 Filed 9-11-00; 8:45 am]

BILLING CODE 5000-04-M